DEPARTMENT OF DEFENSE

GENERAL SERVICES ADMINISTRATION

NATIONAL AERONAUTICS AND SPACE ADMINISTRATION

48 CFR Chapter 1

[Docket FAR—2006-0023]

Federal Acquisition Regulation; Federal Acquisition Circular 2005-12; Introduction

AGENCIES: Department of Defense (DoD), General Services Administration (GSA), and National Aeronautics and Space Administration (NASA).

ACTION: Summary presentation of interim rule.

SUMMARY: This document summarizes the Federal Acquisition Regulation (FAR) rule agreed to by the Civilian Agency Acquisition Council and the Defense Acquisition Regulations Council in this Federal Acquisition Circular (FAC) 2005-12. A companion document, the Small Entity Compliance Guide (SECG), follows this FAC. The FAC, including the SECG, is available via the Internet at http://acquisition.gov/far.

DATES: For effective date and comment date, see separate document which follow.

FOR FURTHER INFORMATION CONTACT: For clarification of content, contact the analyst whose name appears in the table below in relation to the FAR case. Please cite FAC 2005-12, FAR case 2006-014. Interested parties may also visit our Web site at http://acquisition.gov/far. For information pertaining to status or publication schedules, contact the FAR Secretariat at (202) 501-4755.

Item | Subject | FAR case | Analyst
I | Local Community Recovery Act of 2006 (Interim) | 2006-014 | Cundiff.

SUPPLEMENTARY INFORMATION: A summary for the FAR rule follows. For the actual revisions and/or amendments to this FAR case, refer to the specific item number and subject set forth in the document following this item summary.

FAC 2005-12 amends the FAR as specified below:

Item I—Local Community Recovery Act of 2006 (Interim) (FAR Case 2006-014)

This interim rule adds a local area set-aside to the FAR for debris clearance, distribution of supplies, reconstruction, and other major disaster or emergency assistance activities. The contracting officer defines the set-aside area. The rule implements the Local Community Recovery Act of 2006, which strengthens the government's ability to promote local economic recovery. The local area set-aside does not replace small business set-asides. Both can be used at the same time. The rule imposes subcontracting restrictions when a local area set-aside is used. No competition justification is required for the local area set-aside.

Dated: July 28, 2006.
Ralph De Stefano,
Director, Contract Policy Division.

Federal Acquisition Circular

Federal Acquisition Circular (FAC) 2005-12 is issued under the authority of the Secretary of Defense, the Administrator of General Services, and the Administrator for the National Aeronautics and Space Administration.

Unless otherwise specified, all Federal Acquisition Regulation (FAR) and other directive material contained in FAC 2005-12 is effective August 4, 2006.

Dated: July 28, 2006.
Col. Casey D. Blake,
Director of Operations for Defense Procurement and Acquisition Policy.

Dated: July 28, 2006.
Roger D. Waldron,
Acting Senior Procurement Executive, General Services Administration.

Dated: July 28, 2006.
Lou Becker,
Acting Assistant Administrator for Procurement, National Aeronautics and Space Administration.

[FR Doc. 06-6671 Filed 8-3-06; 8:45 am]

BILLING CODE 6820-EP-S